DEPARTMENT OF LABOR

Employment and Training Administration

[TA-W-70,599]

Innovion Corporation, Gresham, Oregon; Notice of Affirmative Determination Regarding Application for Reconsideration

On March 16, 2010, the Department received the petitioner's application (dated March 2, 2010) requesting administrative reconsideration of the negative determination regarding workers' eligibility to apply for Trade Adjustment Assistance (TAA) applicable to workers and former workers of the subject firm. The determination was issued on December 15, 2009, and the Notice of Determination was published in the Federal Register on February 16, 2010 (75 FR 7034).

The initial investigation resulted in a negative determination based on the findings that there was no increase in imports or shift/acquisition of ion implantation services by the workers' firm or customers. The workers' separations were held to be attributable to a major customer cancelling a contract with the workers' firm in order to perform ion implantation services in-house.

In the request for reconsideration, the petitioner provided additional information regarding customers of the subject firm.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 31st day of March, 2010.
Del Min Amy Chen,
Certifying Officer, Division of Trade Adjustment Assistance.

[FR Doc. 2010-8872 Filed 4-16-10; 8:45 am]

BILLING CODE 4510-FN-P